DEPARTMENT OF THE INTERIOR

National Park Service

[NPS-WASO-NAGPRA-NPS0035766; PPWOCRADN0-PCU00RP14.R50000]

Notice of Inventory Completion: University of Wyoming Human Remains Repository, Laramie, WY

AGENCY: National Park Service, Interior.

ACTION: Notice.

SUMMARY: In accordance with the Native American Graves Protection and Repatriation Act (NAGPRA), the University of Wyoming Human Remains Repository has completed an inventory of human remains and associated funerary objects and has determined that there is no cultural affiliation between the human remains and associated funerary objects and any Indian Tribe. The human remains and associated funerary objects were removed from Bighorn, Campbell, Carbon, Fremont, Hot Springs, Johnson, Park, Sheridan, and Washakie Counties and other unknown locations in Wyoming or possibly southern Montana.

DATES: Disposition of the human remains and associated funerary objects in this notice may occur on or after June 5, 2023.

ADDRESSES: Dr. Rick L. Weathermon, University of Wyoming Human Remains Repository, 1000 E. University Avenue, Dept 3431, Laramie, WY 82071, telephone (307) 766-5136, email rikw@uwyo.edu.

SUPPLEMENTARY INFORMATION: This notice is published as part of the National Park Service's administrative responsibilities under NAGPRA. The determinations in this notice are the sole responsibility of the University of Wyoming Human Remains Repository. The National Park Service is not responsible for the determinations in this notice. Additional information on the determinations in this notice, including the results of consultation, can be found in the inventory or related records held by the University of Wyoming (UW) Human Remains Repository.

Description

In the 1960s, human remains representing, at minimum, one individual were removed from site 48WA11, west of the No Wood River in Washakie County, WY, by a private individual. The human remains were transferred to the UW Anthropology Department in 1967. The fragmentary human remains (HR003) represent a female Native American 40-50 years of age. No associated funerary objects were recovered.

In the 1980s, human remains representing, at minimum, one individual were removed from the Laddie Creek site 48BH345 on private ground in Bighorn County, WY, by personnel of the UW Department of Anthropology during backhoe trenching. The fragmentary human remains (HR054) represent a Native American adult male. The human remains are probably Late Plains Archaic (3,500-1,500 years RCYBP), based on stratigraphic information. No associated funerary objects were recovered.

In 1989, human remains representing, at minimum, one individual were removed from private ground at the Shamrock Hills site 48CR4865 in the Great Divide Basin of Carbon County, WY, by the State Archaeologist's Office at the request of the landowner. The fragmentary human remains (HR153) represent a 60+ year old Native American male. No associated funerary objects were recovered.

In the 1980s, human remains representing, at minimum, one individual were removed from the D.O. Bead site 48CR4805 in Carbon County, WY, by personnel of the State Archaeologist's Office at the request of the landowner. The fragmentary human remains represent a probable Native American of unknown age and sex (HR154). The human remains are protohistoric in age based on the associated trade goods. The one associated funerary object is one lot of glass trade beads.

In 1972, human remains representing, at minimum, one individual were removed from an unknown location along Sand Creek in the Rawlins Uplift in Carbon County, WY, by a private individual. The human remains were later given to the UW Anthropology Department. The fragmentary human remains (HR199) represent a 60+ year old Native American male. No associated funerary objects were recovered.

Prior to 1982, human remains representing, at minimum, one individual were removed from an unknown location in Fremont County, WY, by the coroner. In 1982, the human remains were transferred to the UW Anthropology Department. The fragmentary human remains (HR089) represent a 15-17 year old Native American of unknown sex. No associated funerary objects were recovered.

Prior to 1980, human remains representing, at minimum, one individual were removed from an unknown location on Mexican Creek in the Wind River Mountains, Fremont County, WY, by a private individual. In the 1980s, the human remains were transferred to the UW Anthropology Department. The fragmentary human remains (HR167) represent a 35+ year old Native American of unknown sex. The human remains are protohistoric based on notes. No associated funerary objects were recovered.

Prior to 1982, human remains representing, at minimum, one individual were removed from an unknown location along the East Fork River, Fremont County, WY, by the coroner. In 1982, the human remains were transferred to the UW Anthropology Department. The fragmentary human remains (FC041) represent a 40-60 year old Native American of unknown sex. No associated funerary objects were recovered.

In 1973, human remains representing, at minimum, one individual were removed from an unknown location in Hot Springs County, WY, by law enforcement. The human remains were later transferred to the UW Anthropology Department. The fragmentary human remains (FC003) represent an 11-12 year old male Native American. No associated funerary objects were recovered.

In the 1960s or 1970s, human remains representing, at minimum, nine individuals were removed from an unknown location along the future route of Interstate 90 north of Buffalo, Johnson County, WY, during construction by Wyoming Archaeological Society. The human remains were later transferred to the UW Anthropology Department in the 1970s. The fragmentary human remains include a Native American male, 65+ years (HR032); a Native American male, 65+ years of age (HR033); a Native American male, 65+ years (HR034); a Native American male, 65+ years of age (HR035); a Native American child, unknown sex, 9-11 years (HR036); a Native American child, 11-13 years of age, possibly male (HR037); a Native American child about 18 months of age, sex unknown (HR039); a Native American infant, sex unknown, age 0-6 months (HR040); and a Native American infant, sex unknown, age 0-6 months (HR041). No associated funerary objects were recovered.

In the 1960s or 1970s, human remains representing, at minimum, four individuals were removed from an unknown location on the Cash Ranch west of Kaycee, Johnson County, WY, by an unknown individual. The human remains were given to the Wyoming State Museum and transferred to the UW Anthropology Department in the 1982. The fragmentary human remains include a Native American female, 24+ years of age (HR098); a Native American based on museum notes, sex unknown, 15+ years of age (HR099); a Native American based on museum notes, sex unknown, under 18 years (HR100); and a Native American based on museum notes, neonate, sex unknown (HR101). The one associated funerary object is a shaped belemnite fossil, possibly associated with HR098 based on museum notes. The object is currently missing, but, if found, will be transferred with the other cultural items in this notice.

In 1980, human remains representing, at minimum, one individual were removed from an unknown location near Kaycee in Johnson County, WY, by law enforcement. The human remains were transferred to the UW Anthropology Department. The fragmentary human remains (FC024) represent a female Native American 50+ years of age. No associated funerary objects were recovered.

In 1976, human remains representing, at minimum, one individual were removed from an unknown construction location on private ground in Park County, WY, by BLM personnel. The human remains were transferred to the UW Anthropology Department. The fragmentary human remains (HR042) represent a male Native American 17+ years of age. No associated funerary objects were recovered.

In the 1940s, human remains representing, at minimum, one individual were removed from Hargreave's Flat on private ground about nine miles north of Cody, Park County, WY, by Work Projects Administration crew. The human remains have been at the UW Anthropology Department since the early 1970s. The fragmentary human remains (HR046) represent a Native American child 11-13 years of age. The three associated funerary objects are one clam shell fragment, one gypsum fragment, and one dog foot bone.

In the 1960s or 1970s, human remains representing, at minimum, four individuals were removed from site 48SH30 on private ground along Fence Creek, south of Arvada, Sheridan County, WY, by an unknown individual following disturbances due to oil drilling. The human remains were transferred to the UW Anthropology Department in the early 1970s. The fragmentary human remains include a Native American female, 60+ years (HR008a); a probably Native American female, 35-50 years (HR008b); a probable Native American child, age 18-30 months of age (HR008c); and a probable Native American, sex unknown, about 12 years of age (HR008d). The three associated funerary objects are one Late Prehistoric arrow point, one lot of debitage, and one lot of faunal bone.

In 1972, human remains representing, at minimum, five individuals were removed from site 48WA12 on private ground along the west face of the Big Horn Mountains, Washakie County, WY, by University of Wyoming personnel. The human remains have been at the UW Anthropology Department since 1972. The fragmentary human remains include a Native American male, about 25 years of age (HR029); a Native American adult male (HR030); a Native American adult male (HR031a); a probable Native American child, age 7-8 years of age (HR031b); and a probable Native American adult of unknown sex (HR031c). The five associated funerary objects are one lot of reed beads, one lot of red ocher, one lot of bone tool fragments, one lot of wood, and one shell pendant.

Prior to 1982, human remains representing, at minimum, one individual were removed from an unknown location in Ten Sleep Canyon, Washakie County, WY, by a private individual. The human remains were given to the Fort Casper Museum in 1983 and transferred to the UW Anthropology Department in 1993. The fragmentary human remains (HR191) represent a possible Native American (based on museum notes), child, age 1-2 years. No associated funerary objects were recovered.

Prior to 1983, human remains representing, at minimum, one individual were removed from an unknown location in WY by a private individual. The human remains were given to the Wyoming State Museum prior to 1983 and transferred to the UW Anthropology Department in 1993. The fragmentary human remains (HR102) represent Native American adult male. No associated funerary objects were recovered.

Prior to 1983, human remains representing, at minimum, one individual were removed from an unknown location in WY by a private individual. The human remains were given to the Wyoming State Museum prior to 1983 and transferred to the UW Anthropology Department in 1993. The fragmentary human remains represent a possible Native American (HR107), sex unknown, 14-18 years of age. No associated funerary objects were recovered.

Prior to 1983, human remains representing, at minimum, one individual were removed from an unknown location in southeast WY by a private individual. The human remains were given to the Wyoming State Museum prior to 1983 and transferred to the UW Anthropology Department in 1993. The fragmentary human remains represent a possible Native American (HR108) child, six-12 months of age. No associated funerary objects were recovered.

Prior to 1983, human remains representing, at minimum, one individual were removed from an unknown location in WY by a private individual. The human remains were given to the Wyoming State Museum prior to 1983 and transferred to the UW Anthropology Department in 1993. The fragmentary human remains represent a possible Native American (HR109), sex unknown, 15-22 years of age. No associated funerary objects were recovered.

Prior to 1992, human remains representing, at minimum, one individual were removed from an unknown location in WY by a private individual. The human remains were given to the Pioneer Museum in Douglas, Converse County, WY, prior to 1992 and transferred to the UW Anthropology Department in 1992. The fragmentary human remains represent a possible Native American (HR190), male, adult in age. No associated funerary objects were recovered.

Prior to 1992, human remains representing, at minimum, one individual were removed from an unknown location in WY by a private individual. The human remains were given to Fort Caspar Museum at an unknown time and transferred to the UW Anthropology Department in 1993. The fragmentary human remains represent a possible Native American (HR196), sex unknown, older adult in age. No associated funerary objects were recovered.

Prior to mid-1980s, human remains representing, at minimum, three individuals were removed from private lands around Buffalo, Johnson County, and Sheridan, Sheridan County, WY, and Bighorn County, MT, by a private individual. The human remains were given to the UW Anthropology Department in in the mid-1980s. The fragmentary human remains include a possible Native American male, adult in age (HR218a); a possibly Native American, possibly male, adult in age (HR218b); and a possible Native American, possibly male, adult in age (HR218c). No associated funerary objects were recovered.

Prior to 1972, human remains representing, at minimum, one individual were removed from an unknown location in WY by an unknown individual. The fragmentary human remains were subsequently collected at the Worland Dump near Worland, Washakie County, WY, by local law enforcement and transferred to the UW Anthropology Department in 1972. The fragmentary human remains represent a possible Native American (FC001) male, over 30 years of age. No associated funerary objects were recovered.

In 1985, human remains representing, at minimum, one individual were removed from an unknown location in WY by law enforcement. The human remains were sent to the Wyoming State crime lab and subsequently transferred to the UW Anthropology Department in 1985. The fragmentary human remains represent a Native American (FC068) male, over 30 years of age. No associated funerary objects were recovered.

In 1986, human remains representing, at minimum, one individual were removed from an unknown location in WY by law enforcement. The human remains were sent to the Wyoming State Crime Lab and subsequently transferred to the UW Anthropology Department in 1986. The fragmentary human remains represent a Native American (FC076) male, 40 to 55 years of age. No associated funerary objects were recovered.

In 1992, human remains representing, at minimum, one individual were removed from an unknown location in WY by law enforcement. The human remains were sent to the Wyoming State Crime Lab and subsequently transferred to the UW Anthropology Department in 1992. The fragmentary human remains represent a Native American (FC098) male, 50 to 60 years of age. No associated funerary objects were recovered.

Prior to 1996, human remains representing, at minimum, one individual were removed from an unknown location on the Bishop Ranch in Campbell County, WY, by unknown individuals. The human remains were given to the Rockpile Museum in Gillette, WY, and subsequently transferred to the UW Anthropology Department in 1996. The fragmentary human remains represent a Native American (DB055) female, 20 to 25 years of age. No associated funerary objects were recovered.

In the 1950s or before, human remains representing, at minimum, one individual were removed from an unknown location in WY by unknown individuals. The human remains were given to the Pioneer Museum in Douglas, Converse County, WY, and subsequently transferred to the UW Anthropology Department in 1997. The fragmentary human remains represent a Native American (HR225) female, 17 to 20 years of age. No associated funerary objects were recovered.

In 1986, human remains representing, at minimum, four individuals were removed from private lands in the Green-Phipps site (48PA911), Park County, WY, by UW and the State Archaeologist's Office. The human remains were originally listed as coming from BLM ground, but further investigation places them a few feet into private lands. The human remains have been at the UW Anthropology Department since 1986. The fragmentary human remains represent a Native American male, 50+ years of age (HR134a); a Native American of unknown sex, 14-17 years of age (HR134b); a Native American of unknown sex, 5 to 10 years of age (HR134c); and a Native American of unknown sex, 18-24 years of age (HR134d). The 82 associated funerary objects are 60 pieces of debitage, one projectile point, 20 stone or bone beads, and one lot of unidentified faunal remains.

Aboriginal Land

The human remains and associated funerary objects in this notice were removed from known geographic locations. These locations are the aboriginal lands of one or more Indian Tribes. The following information was used to identify the aboriginal land: a final judgment of the Indian Claims Commission, a treaties, Acts of Congress, and Executive Orders.

Determinations

Pursuant to NAGPRA and its implementing regulations, and after consultation with the appropriate Indian Tribes, the University of Wyoming Human Remains Repository has determined that:

• The human remains described in this notice represent the physical remains of 54 individuals of Native American ancestry.

• The 95 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Apache Tribe of Oklahoma; Assiniboine and Sioux Tribes of the Fort Peck Indian Reservation, Montana; Blackfeet Tribe of the Blackfeet Indian Reservation of Montana; Cheyenne and Arapaho Tribes, Oklahoma; Cheyenne River Sioux Tribe of the Cheyenne River Reservation, South Dakota; Comanche Nation, Oklahoma; Crow Creek Sioux Tribe of the Crow Creek Reservation, South Dakota; Crow Tribe of Montana; Fort Belknap Indian Community of the Fort Belknap Reservation of Montana; Keweenaw Bay Indian Community, Michigan; Lower Brule Sioux Tribe of the Lower Brule Reservation, South Dakota; Nez Perce Tribe; Northern Arapaho Tribe of the Wind River Reservation, Wyoming; Northern Cheyenne Tribe of the Northern Cheyenne Indian Reservation, Montana; Oglala Sioux Tribe; Rosebud Sioux Tribe of the Rosebud Indian Reservation, South Dakota; Santee Sioux Nation, Nebraska; Shoshone-Bannock Tribes of the Fort Hall Reservation; Standing Rock Sioux Tribe of North & South Dakota; Three Affiliated Tribes of the Fort Berthold Reservation, North Dakota; and the White Mountain Apache Tribe of the Fort Apache Reservation, Arizona.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after June 5, 2023. After that date, if no additional requestors have come forward, transfer of control of the human remains and associated funerary objects to the Northern Arapaho Tribe of the Wind River Reservation, Wyoming, may proceed. If competing requests for disposition are received, the University of Wyoming Human Remains Repository must determine the most appropriate requestor prior to disposition. Requests for joint disposition of the human remains and associated funerary objects are considered a single request and not competing requests. The University of Wyoming Human Remains Repository is responsible for sending a copy of this notice to the Indian Tribes identified in this notice.

Authority: Native American Graves Protection and Repatriation Act, 25 U.S.C. 3003, and the implementing regulations, 43 CFR 10.9 and § 10.11.

Dated: April 25, 2023.
Melanie O'Brien,
Manager, National NAGPRA Program.

[FR Doc. 2023-09469 Filed 5-3-23; 8:45 am]

BILLING CODE 4312-52-P